DEPARTMENT OF THE INTERIOR

Bureau of Land Management

[BLM_ES_FRN_MO4500171869]

Notice of Filing of Plat of Survey; Mississippi

AGENCY: Bureau of Land Management, Interior

ACTION: Notice of official filing.

SUMMARY: The plat of survey of the following described lands is scheduled to be officially filed in the Bureau of land Management (BLM), Eastern States Office, Falls Church, Virginia, 30 days from the date of this publication. The survey, executed at the request of the Bureau of Indian Affairs, Eastern Region, is required for the management of these lands.

DATES: Unless there are protests of this action, the filing of the plat described in this notice will happen 30 days after publication of this notice in the Federal Register.

ADDRESSES: Written notices protesting the survey must be sent to the State Director, BLM Eastern States, 5275 Leesburg Pike, Falls Church, Virginia, 22041.

FOR FURTHER INFORMATION CONTACT: Frank D. Radford, Chief Cadastral Surveyor for Eastern States; (703) 558-7759; email: fradford@blm.gov; or U.S. Postal Service: BLM-ES, 5275 Leesburg Pike, Suite 102A, Falls Church, Virginia, 22041. Attn: Cadastral Survey. Persons who use a telecommunications device for the deaf may call the Federal Information Relay Service (FIRS) at 1-800-877-8339 to contact the above individual during normal business hours. The service is available 24 hours a day, 7 days a week, to leave a message or question with the above individual. You will receive a reply during normal business hours.

SUPPLEMENTARY INFORMATION:

Choctaw Meridian, Mississippi

The plat, incorporating the field notes of the dependent resurvey of a portion of the west boundary, a portion of the subdivisional lines, the subdivision of sections 7 and 18, the metes and bounds survey of lands held in trust for the Mississippi Band of Choctaw Indians in sections 7 and 18, the survey of the meanders of the right bank of the Pearl River in section 18, and the metes and bounds survey of an access easement in section 18, Township 11 North, Range 10 East, was accepted on April 18, 2024.

A person or party who wishes to protest a survey must file a written notice of protest within 30 calendar days from the date of this publication at the address listed in the ADDRESSES section of this notice. A notice of protest is considered filed on the date it is received by the State Director for Eastern States during regular business hours; if received after regular business hours, a notice of protest will be considered filed the next business day. Any notice of protest filed after the scheduled date of official filing will be untimely and will not be considered. A statement of reasons for the protest may be filed with the notice of protest and must be filed within 30 calendar days after the protest is filed. If a notice of protest against the survey is received prior to the date of official filing, the filing will be stayed pending consideration of the protest. A plat will not be officially filed until the next business day after all protests have been dismissed or otherwise resolved.

Before including your address, phone number, email address, or other personal identifying information in your notice of protest or statement of reasons, please be aware that your entire protest, including your personal identifying information may be made publicly available at any time. While you can ask us in your comment to withhold your personal identifying information from public review, we cannot guarantee that we will be able to do so.

A copy of the described plats will be placed in the open files, and available to the public, as a matter of information.

Authority: 43 U.S.C. chap. 3.

Frank D. Radford,
Chief Cadastral Surveyor for Eastern States.

[FR Doc. 2024-17797 Filed 8-9-24; 8:45 am]

BILLING CODE 4331-18-P